DEPARTMENT OF HOMELAND SECURITY

Coast Guard

[USCG-2007-27492]

Chemical Transportation Advisory Committee

AGENCY: Coast Guard, DHS.

ACTION: Notice of meeting.

SUMMARY: The Chemical Transportation Advisory Committee (CTAC), its Subcommittees on Hazardous Cargo Transportation Security (HCTS), the National Fire Protection Association (NFPA) 472 Standard, and Outreach, as well as its Working Group on Barge Hazard Communication will meet to discuss various issues relating to the marine transportation of hazardous materials in bulk. These meetings will be open to the public.

DATES: Both the Subcommittee on Outreach and the Working Group on Barge Hazard Communication will meet on Tuesday, April 10, 2007, from 8 a.m. to 12 p.m. and the NFPA 472 Subcommittee will meet on Tuesday, April 10, 2007, from 12:30 p.m. to 4:30 p.m. The NFPA 472 Subcommittee will meet on Wednesday, April 11, 2007, from 8 a.m. to 12 p.m. and the Subcommittee on HCTS will meet on Wednesday, April 11, 2007, from 12:30 p.m. to 4:30 p.m. CTAC will meet on Thursday, April 12, 2007, from 9 a.m. to 3:30 p.m. These meetings may close early if all business is finished. Written material and requests to make oral presentations should reach the Coast Guard on or before April 3, 2007. Requests to have a copy of your material distributed to each member of the Committee should reach the Coast Guard on or before April 3, 2007.

ADDRESSES: The meetings of the Subcommittees on Outreach, NFPA 472 and HCTS and the Working Group on Barge Hazard Communication will be held at the National Fire Protection Association, 1 Batterymarch Park, Quincy, MA 02269. The CTAC meeting will be held at the Boston Marriott Quincy, 1000 Marriott Drive, Quincy, MA 02269. Send written material and requests to make oral presentations to Commander Richard Raksnis, Executive Director of CTAC, Commandant (CG-3PSO-3), U.S. Coast Guard Headquarters, 2100 Second Street SW., Washington, DC 20593-0001 or E-mail: CTAC@comdt.uscg.mil. This notice is available on the Internet at http://dms.dot.gov.

FOR FURTHER INFORMATION CONTACT: Commander Richard Raksnis, Executive Director of CTAC, or Ms. Sara Ju, Assistant to the Executive Director, telephone 202-372-1425, fax 202-372-1926.

SUPPLEMENTARY INFORMATION: Notice of these meetings is given under the Federal Advisory Committee Act, 5 U.S.C. App. (Pub. L. 92-463).

Agenda of the Outreach Subcommittee Meeting on Tuesday, April 10, 2007

(1) Introduce Subcommittee members and attendees.

(2) Finalize the poster presentation for the Responsible Care Conference in May, 2007.

(3) Discuss outreach efforts on issues of barge emissions and vapor control systems.

Agenda of the Barge Hazard Communication Working Group, April 10, 2007

(1) Introduce Working Group members and attendees.

(2) Draft letter for voluntary compliance with the 24-hour contact number.

(3) Develop future Working Group plans.

Agenda of the NFPA 472 Subcommittee Meeting on Tuesday, April 10, 2007

(1) Introduce Subcommittee members and attendees.

(2) Complete first draft of proposed chapter describing competencies of responders to marine non-tank vessel incidents, for future incorporation into the NFPA 472 Standard, Professional Competence of Responders to Hazardous Materials Incidents.

Agenda of the NFPA 472 Subcommittee Meeting on Wednesday, April 11, 2007

(1) Introduce Subcommittee members and attendees.

(2) Begin work on second draft of chapter describing competencies of responders to marine non-tank vessel incidents.

(3) Discuss future plans for the Subcommittee.

Agenda of the Subcommittee on Hazardous Cargo Transportation Security (HCTS) on Wednesday, April 11, 2007

(1) Introduce Subcommittee members and attendees.

(2) Discussion on updates to the Maritime Transportation Security Act (MTSA) regulations.

(3) Discuss Coast Guard Certain Dangerous Cargo (CDC) security project.

Agenda of CTAC Meeting on Thursday, April 12, 2007

(1) Introduce Committee members and attendees.

(2) Status report presentation from the CTAC HCTS Subcommittee to include discussion and vote on comments to the MTSA regulations.

(3) Status report presentation from the CTAC Outreach Subcommittee.

(4) Status report presentation from the CTAC Barge Hazard Communication Working Group.

(5) Status report presentation from the CTAC MARPOL Annex II Working Group.

(6) Status report presentation from the NFPA 472 Subcommittee.

(7) Presentation on the Transportation Worker Identification Credential (TWIC) Program.

(8) Presentation on the Marine Chemist Program.

(9) Presentation on LNG deepwater port issues.

(10) Update on Coast Guard regulatory projects.

Procedural

These meetings are open to the public. Please note that the meetings may close early if all business is finished. At the discretion of the Chair, members of the public may make oral presentations during the meetings generally limited to five minutes. If you would like to make an oral presentation at a meeting, please notify the Executive Director and submit written material on or before April 3, 2007. If you would like a copy of your material distributed to each member of the Committee in advance of a meeting, please submit 25 copies to the Executive Director (see ADDRESSES) no later than April 3, 2007.

Information on Services for Individuals With Disabilities

For information on facilities or services for individuals with disabilities, or to request special assistance at the meeting, telephone the Executive Director as soon as possible.

Dated: March 8, 2007.
J.G. Lantz,
Director of National and International Standards, Assistant Commandant for Prevention.

[FR Doc. E7-4935 Filed 3-16-07; 8:45 am]

BILLING CODE 4910-15-P